DEPARTMENT OF AGRICULTURE

Beginning Farmers and Ranchers Advisory Committee

AGENCY: Office of Advocacy and Outreach, USDA.

ACTION: Notice of public meeting.

SUMMARY: Pursuant to the Federal Advisory Committee Act (FACA), the Office of Advocacy and Outreach (OAO) is announcing a meeting of the Beginning Farmers and Ranchers Advisory Committee's (BFRAC). The committee is being convened to consider issues involving access to land, farm business transition, and land tenure. The members will deliberate on recommendations to be prepared for USDA Secretarial consideration.

DATES: The committee meeting is scheduled for Monday and Tuesday, August 3 and 4, 2015, from 8:00 a.m.-4:30 p.m. CST. The meeting will be open to the public. All persons wishing to make comments during this meeting must check in between 8:00 a.m. and 9:00 a.m. and 2:00 p.m. and 3:00 p.m. CST, on both days, at the registration table. All public commenters will be allowed a maximum of three minutes. If the number of registrants requesting to speak is greater than what can be reasonably accommodated during the scheduled open public meeting timeframe, speakers will be scheduled on a first-come basis. Public written comments for the committee's consideration may be submitted by close of business on July 31, 2015, to Mrs. Kenya Nicholas, Designated Federal Official, USDA OAO, 1400 Independence Avenue SW., Room 520-A, Washington, DC 20250-0170, Phone (202) 720-6350, Fax (202) 720-7704, Email: acbfr@osec.usda.gov. Written submissions are encouraged to either be less than one page in length, or be accompanied by an executive summary and a summary of policy initiatives. A listen-only line will be available during the entire meeting for all who wish to listen in on the meeting or make public comments through the following telephone number: (800) 369-1878 and enter passcode 2814434. Members of the public may also submit written comments for consideration to the committee.

ADDRESSES: This public advisory committee meeting will be held at the Kansas City Airport Marriott, 775 Brasilia Avenue, Kansas City, MO 64153. The meeting will be in conference rooms Salon A and Salon B. There will also be signs directing attendees to the meeting rooms.

FOR FURTHER INFORMATION CONTACT: Questions should be directed to Phyllis Morgan, Executive Assistant, OAO, 1400 Independence Ave. SW., Whitten Bldg., 520-A, Washington, DC 20250, Phone: (202) 720-6350, Fax: (202) 720-7136, email: Phyllis.Morgan@osec.usda.gov.

SUPPLEMENTARY INFORMATION: The BFRAC Subcommittee on Land Tenure met in Des Moines, Iowa, on June 22 and 23, 2015. The Secretary tasked the BFRAC with providing recommendations on access to land, farm business transition, and land tenure. Prior to that meeting, the BFRAC met in Austin, TX on September 23-24, 2015, to deliberate upon the final set of recommendations for the Secretary on issues involving communications, service, and advocacy in identifying barriers for beginning farmers and ranchers. They also considered issues around lending and credit in parsing statistics generated by USDA. Please visit our Web site at: http://www.outreach.usda.gov/smallbeginning/index.htm for additional information on the BFRAC.

The public is asked to pre-register for the meeting by July 31, 2015. You may pre-register for the public meeting by submitting an email to acbfr@osec.usda.gov with your name, organization or affiliation, or any comments for the committee's consideration. You may also fax this information to (202) 720-7704. Members of the public who wish to make comments during the committee meeting must register at the check-in table.

The agenda is as follows: Day 1: Committee discussions and public comments; Day 2: Committee discussions, public comments, and committee deliberations. Please visit the Beginning Farmers and Ranchers Advisory Committee Web site for the full agenda. All agenda topics and documents will be made available to the public at: http://www.outreach.usda.gov/smallbeginning/index.htm. Copies of the agenda will also be distributed at the meeting.

Meeting Accommodations: USDA is committed to ensuring that everyone is accommodated in our work environment, programs, and events. If you are a person with a disability and request reasonable accommodations to participate in this meeting, please note the request in your registration and you may contact Mrs. Kenya Nicholas in advance of the meeting by or before close of business on July 31, 2015, by phone at (202) 720-6350, fax (202) 720-7704, or email: kenya.nicholas@osec.usda.gov.

Christian Obineme,
Associate Director, Office of Advocacy and Outreach.

[FR Doc. 2015-17389 Filed 7-14-15; 8:45 am]

BILLING CODE P